DEPARTMENT OF HEALTH AND HUMAN SERVICES

National Institutes of Health

National Institute on Aging; Amended Notice of Meeting

Notice is hereby given of a change in the meeting of the National Institute on Aging Special Emphasis Panel, August 31, 2022, 01:00 p.m. to August 31, 2022, 04:00 p.m., National Institute on Aging, Gateway Building, 7201 Wisconsin Avenue, Bethesda, MD 20892 which was published in the Federal Register on August 04, 2022, 315159.

The meeting notice is amended to change the date of the meeting from August 31, 2022 to October 19, 2022. The time of the meeting will remain 1:00 p.m. to 4:00 p.m. The meeting is Closed to the public.

Information is also available on the Institute's/Center's home page: www.nia.nih.gov/, where an agenda and any additional information for the meeting will be posted when available.

Dated: August 15, 2022.
Miguelina Perez,
Program Analyst, Office of Federal Advisory Committee Policy.

[FR Doc. 2022-17837 Filed 8-18-22; 8:45 am]

BILLING CODE 4140-01-P